DEPARTMENT OF DEFENSE

Office of the Secretary

[Docket ID: DOD-2019-OS-0070]

Proposed Collection; Comment Request

AGENCY: USTRANSCOM, DoD.

ACTION: Information collection notice.

SUMMARY: In compliance with the Paperwork Reduction Act of 1995, the USTRANSCOM, Military Surface Deployment and Distribution Command (SDDC) announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by August 19, 2019.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Department of the Army, Military Surface Deployment and Distribution Command, 1 Soldier Way, Scott AFB IL 62225-5006, ATTN: Ms. Estella McNaughton, or call (571) 515-0231.

SUPPLEMENTARY INFORMATION: Title; Associated Form; and OMB Number: SDDC Transportation Financial Management System (TFMS) Access Request; SDDC Form 417; OMB Control Number 0704-XXXX.

Needs and Uses: The information collection requirement is necessary to establish Human Resource (HR) accounts within the Transportation Financial Management System (TFMS) for the Military Surface Deployment and Distribution Command (SDDC). The HR account is linked to the supplier module for payment of entitlements (Defense Travel System (DTS)). The information is also linked to the Defense Civilian Pay system (DCPS) for payment of civilian personnel for entitlements. The information is also used to establish and control user accounts in TFMS.

Affected Public: Individuals or Households.

Annual Burden Hours: 164.

Number of Respondents: 984.

Responses per Respondent: 1.

Annual Responses: 984.

Average Burden per Response: 10 minutes.

Frequency: As required.

Respondents are new employees that will be paid through DCPS, travelers that will be reimbursed using the SDDC line of accounting, or anyone requiring access to the accounting system to enter data or query exiting data. They are responding to the information collection to ensure they receive pay and benefits or to gain access to the accounting system as part of their assigned duties.

Dated: June 14, 2019.
Aaron T. Siegel,
Alternate OSD Federal Register, Liaison Officer, Department of Defense.

[FR Doc. 2019-13030 Filed 6-18-19; 8:45 am]

BILLING CODE 5001-06-P